DEPARTMENT OF COMMERCE

National Oceanic and Atmospheric Administration

Proposed Information Collection; Comment Request; NOAA Public Awareness and Outreach Evaluation Program

AGENCY: National Oceanic and Atmospheric Administration (NOAA), Department of Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 9, 2007.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Patricia Huff, 301-713-1127 or patricia.huff@noaa.gov.

SUPPLEMENTARY INFORMATION:

I. Abstract

The National Oceanic and Atmospheric Administration (NOAA) plans to collect information needed to assess the understanding and awareness of NOAA and its programs among the general public, especially as it relates to the collection and dissemination of scientific, operational, and life-saving data. NOAA's mission includes understanding and predicting changes in the Earth's environment; being an international leader in changing the way integrated environmental observations and information are captured, managed, stored, shared, and used to benefit the world; and protecting life and property. NOAA will consider the findings in tailoring its outreach activities and to provide statistical basis for measuring the utilization of tax-funded data products. Respondents will be a cross-section of the U.S. population.

II. Method of Collection

NOAA will survey respondents electronically via the Internet. Sixteen one-hour focus groups will also be conducted with small groups of respondents in person.

III. Data

OMB Number: None.

Form Number: None.

Type of Review: Regular submission.

Affected Public: Individuals or households.

Estimated Number of Respondents: 4,110.

Estimated Time per Response: 20 minutes per electronic survey; one hour per focus group participant.

Estimated Total Annual Burden Hours: 1,333.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and

(d) ways to minimize the burden of the collection of information on respondents, including through the use of automated collection techniques or other forms of information technology.

Comments submitted in response to this notice will be summarized and/or included in the request for OMB approval of this information collection; they also will become a matter of public record.

Dated: August 2, 2007.
Gwellnar Banks,
Management Analyst, Office of the Chief Information Officer.

[FR Doc. E7-15394 Filed 8-7-07; 8:45 am]

BILLING CODE 3510-HR-P